DEPARTMENT OF ENERGY

Federal Energy Regulatory Commission

[Docket No. RP02-215-001]

Kinder Morgan Interstate Gas Transmission LLC; Notice of Tariff Filing

April 12, 2002.

Take notice that on April 9, 2002 Kinder Morgan Interstate Gas Transmission LLC (KMIGT) tendered for filing as part of its FERC Gas Tariff, Fourth Revised Volume No. 1, the following tariff sheets, to become effective May 1, 2002:

Substitute Original Sheet No. 37A

Substitute Original Sheet No. 93A

KMIGT states that the filing is being made to amend tariff sheets filed March 29, 2002 in Docket No. RP02-215.

KMIGT states that copies of the filing has been served upon all of its customers and affected state commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-9475 Filed 4-17-02; 8:45 am]

BILLING CODE 6717-01-P